POSTAL SERVICE

Temporary Emergency Committee of the Board of Governors; Sunshine Act Meeting

TIME AND DATE: Thursday, September 13, 2018, at 1:00 p.m.

PLACE: Washington, DC

STATUS: Closed.

MATTERS TO BE CONSIDERED:

Thursday, September 13, 2018, at 1:00 p.m.

1. Strategic Issues.

2. Financial Matters.

3. Executive Session—Discussion of prior agenda items and Temporary Emergency Committee governance.

General Counsel Certification: The General Counsel of the United States Postal Service has certified that the meeting may be closed under the Government in the Sunshine Act.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2018-19371 Filed 8-31-18; 4:15 pm]

BILLING CODE 7710-12-P